DEPARTMENT OF COMMERCE

Foreign-Trade Zones Board

[B-47-2016]

Foreign-Trade Zone (FTZ) 249—Pensacola, Florida; Authorization of Production Activity; GE Renewables North America, LLC (Wind Turbine Nacelles, Hubs, and Drivetrains); Pensacola, Florida

On July 22, 2016, GE Renewables North America, LLC submitted a notification of proposed production activity to the Foreign-Trade Zones (FTZ) Board for its facility within Subzone 249A, in Pensacola, Florida.

The notification was processed in accordance with the regulations of the FTZ Board (15 CFR part 400), including notice in the Federal Register inviting public comment (81 FR 49618-49619, July 28, 2016). The FTZ Board has determined that no further review of the activity is warranted at this time. The production activity described in the notification is authorized, subject to the FTZ Act and the Board's regulations, including Section 400.14.

Dated: November 21, 2016.
Andrew McGilvray,
Executive Secretary.

[FR Doc. 2016-28559 Filed 11-25-16; 8:45 am]

BILLING CODE 3510-DS-P